DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Access to Recovery (ATR) Program (OMB No. 0930-0266)—Revision

The Center for Substance Abuse Treatment (CSAT) is charged with implementing the Access to Recovery (ATR) program which will allow grantees (States, Territories, the District of Columbia and Tribal Organizations) a means to implement voucher programs for substance abuse clinical treatment and recovery support services. The ATR program is part of a Presidential initiative to: (1) Provide client choice among substance abuse clinical treatment and recovery support service providers, (2) expand access to a comprehensive array of clinical treatment and recovery support options (including faith-based programmatic options), and (3) increase substance abuse treatment capacity. Monitoring outcomes, tracking costs, and preventing waste, fraud and abuse to ensure accountability and effectiveness in the use of Federal funds are also important elements of the ATR program. Grantees, as a contingency of their award, are responsible for collecting data from their clients at intake, discharge, and follow-up (at six months post intake).

The primary purpose of this data collection activity is to meet the reporting requirements of the Government Performance and Results Act (GPRA) by allowing SAMHSA to quantify the effects and accomplishments of SAMHSA programs. The following table is an estimated annual response burden for this effort.

Estimates of Annualized Hour Burden ¹
Center/form/respondent type | Number of respondents | Responses per respondent | Total responses | Hours per response | Total hour burden | Added burden proportion ² | Total annual burden hours
CSAT GPRA Client Outcome Measures for Access to Recovery Programs
Clients
Adults | 53,333 | 3 | 160,000 | .33 | 52,800 | .33 | 17,424
Client Subtotal | 53,333 |  | 160,000 |  |  |  | 17,424
Data Extract ³
Adult Records | 53,333 | 3 | 160,000 | .16 | 25,600 | — | 25,600
Data Extract Subtotal | 53,333 |  | 160,000 |  |  |  | 25,600
Upload ⁴ | 24 grants |  | 160,000 | 1 hr. per 6,000 records | 27 | — | 27
Upload Subtotal | 24 grants |  | 160,000 |  |  |  | 27
ATR Voucher Information and Voucher Transaction
Voucher information and transaction | 53,333 | 1.5 | 80,000 | .03 | 2,400 |  | 2,400
Voucher information and transaction Subtotal | 53,333 |  | 80,000 |  |  |  | 2,400
Subtotal | 160,000 |  | 480,000 |  |  |  | 45,451
Total | 160,000 |  | 480,000 |  |  |  | 45,451
¹ This table represents the maximum additional burden if adult respondents provide three sets of responses/data.
² Added burden proportion is an adjustment reflecting customary and usual business practices programs engage in (e.g., they already collect the data items).
³ Data Extract: Grant burden for capturing customary and usual data.
⁴ Upload: All ATR grants upload data.

Written comments and recommendations concerning the proposed information collection should be sent by March 14, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: February 7, 2008.
Elaine Parry,
Acting Director, Office of Program Services.

[FR Doc. E8-2740 Filed 2-12-08; 8:45 am]

BILLING CODE 4162-20-P